COMMISSION ON CIVIL RIGHTS

Agenda and Notice of Public Meeting of the Oregon Advisory Committee

Notice is hereby given, pursuant to the provisions of the rules and regulations of the U.S. Commission on Civil Rights, that a meeting of the Oregon Advisory Committee to the Commission will convene at 10 a.m. and adjourn at 2 p.m. on November 9, 2000, at the Sweetbrier Inn, Board Room, 7125 SW Nyberg Road, Tualatin, Oregon 97062. The purpose of the meeting is to discuss the background and the method of conducting a law enforcement Committee project.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, October 27, 2000.
Lisa M. Kelly,
Special Assistant to the Staff Director, Regional Programs Coordination Unit.

[FR Doc. 00-28066 Filed 10-27-00; 4:20 pm]

BILLING CODE 6335-01-P